DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Comment Request; Greater Atlantic Region Logbook Family of Forms.

OMB Control Number: 0648-0212.

Form Number(s): None.

Type of Request: Regular.

Number of Respondents: 2,422.

Average Hours per Response: VTR response time is 5 minutes; Shellfish log is 12.5 minutes; IVR burden for each tilefish call is 2 minutes, each herring call is 4 minutes, and each RSA or EFP call is 5 minutes; DAS IVRs are 5 minutes; and declarations of days out of gillnet fishery, along with the departure/landing call ins are 2 minutes.

Burden Hours: 10,429

Needs and Uses: The information collected using IVR and VTRs is used by several offices of the NOAA Fisheries Service, the U.S. Coast Guard, the Councils, and state fishery enforcement agencies under contract to the NOAA Fisheries Service in order to develop, implement, and monitor fishery management strategies.

These data serve as inputs for a variety of uses, including biological analyses and stock assessments, regulatory impact analyses, quota allocation selections and monitoring, economic profitability profiles, trade and import tariff decisions, allocation of grant funds among states, and analysis of ecological interactions among species. NMFS would be unable to fulfill the majority of its scientific research and fishery management missions without these data.

Affected Public: Business or other for-profit, Individuals or households.

Frequency: On occasion, weekly, monthly

Respondent's Obligation: Mandatory

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-10163 Filed 5-15-19; 8:45 am]

BILLING CODE 3510-22-P